FEDERAL RETIREMENT THRIFT INVESTMENT BOARD

Employee Thrift Advisory Council; Open Meeting

In accordance with section 10(a)(2) of the Federal Advisory Committee Act (Pub. L. 92-463), a notice is hereby given of the following committee meeting:

Name: Employee Thrift Advisory Council.

Time: 10 a.m.

Date: October 14, 2005.

Place: 4th Floor, Conference Room, Federal Retirement Thrift Investment Board, 1250 H Street, NW., Washington, DC.

Status: Open.

Matters To Be Considered:

1. Approval of the minutes of the May 4, 2005, meeting.

2. Report of the Executive Director on Thrift Savings Plan status.

3. L Funds.

4. Investment consultant.

5. Hurricane Katrina.

6. New business.

For further information contact: Elizabeth S. Woodruff, Committee Management Officer, on (202) 942-1660.

Dated: September 29, 2005.
Elizabeth S. Woodruff,
General Counsel, Federal Retirement Thrift Investment Board.

[FR Doc. 05-19909 Filed 10-4-05; 8:45 am]

BILLING CODE 6760-01-P